DEPARTMENT OF DEFENSE

Department of the Army, Corps of Engineers

Notice of Intent To Prepare a Supplemental Environmental Impact Statement for the Sabine Pass to Galveston Bay Coastal Storm Risk Management and Ecosystem Restoration Project, Orange County, TX

AGENCY: Corps of Engineers, Department of the Army, DoD.

ACTION: Notice of intent to prepare a draft supplemental environmental impact statement for the Sabine Pass to Galveston Bay Coastal Storm Risk Management and Ecosystem Restoration Project, Orange County, Texas.

SUMMARY: The Galveston District, U.S. Army Corps of Engineers (USACE) intends to prepare a Draft Supplemental Environmental Impact Statement (SEIS) for the Sabine Pass to Galveston Bay, Orange County Project consistent with the National Environmental Policy Act of 1969 (NEPA, Pub. L. 91-190) as amended. On October 2, 2018, the Record of Decision (ROD) was signed for the Sabine Pass to Galveston Bay, Texas Coastal Storm Risk Management and Ecosystem Restoration Final Integrated Feasibility Report and Environmental Impact Statement (FIFR-EIS). The FIFR-EIS evaluated three distinct separable elements (projects) using a region-wide systems approach in Orange County, Port Arthur and Vicinity, and Freeport and Vicinity. The Orange County Project is currently in the pre-construction engineering and design phase (PED). The USACE is currently evaluating alternative alignments for the Orange County Project based on new technical analyses and stakeholder engagement. The currently identified alignments differ in location and the magnitude of environmental impacts from those evaluated in the FIFR-EIS. In accordance with NEPA and the Department of Defense NEPA implementing procedures, the USACE will prepare a SEIS to document and disclose the impacts of substantial changes to the proposed action and new information that are relevant to environmental concerns. The USACE is seeking public input on the scope of the SEIS, effects, additional alternatives, public concerns, and relevant information, studies, or analyses for the proposed action.

DATES: Public scoping comments should be submitted on or before October 9, 2025, electronically or mailed as written letters. One public scoping meeting will be held on September 17, 2025, from 6:00 p.m. to 8:00 p.m. at the Orange County Convention and Expo Center, 11475 FM 1442, Orange, Texas 77630.

ADDRESSES: Submit all electronic public comments via email to Dr. Raven Blakeway: S2GOrangeCounty@usace.army.mil or via online comment form at the project website below. Written comments may be mailed to U.S. Army Corps of Engineers, Galveston District, ATTN: Dr. Raven Blakeway (RPEC), 2000 Fort Point Road, Galveston, TX 77550.

Pertinent information about the study and online comment form can be found at: https://www.swg.usace.army.mil/S2G/OrangeCounty/.

FOR FURTHER INFORMATION CONTACT: Questions or comments regarding the proposed Draft SEIS can be addressed by contacting Dr. Raven Blakeway by phone at 409-790-9058 or by emailing at S2GOrangeCounty@usace.army.mil.

SUPPLEMENTARY INFORMATION:

1. Authority. The Sabine Pass to Galveston Bay, Texas Coastal Storm Risk Management and Ecosystem Restoration (S2G) study described in the Final Integrated Feasibility Report and Environmental Impact Statement (FIFR-EIS) was conducted under the “Coastal Texas Protection and Restoration Study” authority, Senate resolution dated June 23, 2004, in accordance with Section 110 of the Rivers and Harbors Act of 1962. The FIFR-EIS was completed in May 2017 and the Chief of Engineers Report was signed December 7, 2017. The ROD was signed by the Assistant Secretary of the Army, Civil Works on October 2, 2018. Construction was authorized under section 1401(3)(3) of the Water Resources Development Act of 2018 (Pub. L. 115-270) and the project received appropriations to construct under the Bipartisan Budget Act of 2018 (Pub. L. 115-123). The lead agency for this action is the USACE and the non-federal sponsor is the Gulf Coast Protection District (GCPD).

2. Background. The purpose of the proposed action is to provide coastal storm risk management by addressing storm surge threats through protecting critical infrastructure and people, reducing structural damage, lessening financial and social burdens following storm events, and increasing the counties' ability to respond to natural hazards and build resiliency to long-term impacts associated with sea level rise and land subsidence. Orange County, TX (project area) has sustained several major historical surge events in the past 120 years that have resulted in significant impacts on infrastructure and residents, coastal shorelines, marshes, and forested wetlands prompting the need to reduce coastal storm risks.

The USACE prepared the S2G FIFR-EIS to document the feasibility of reducing coastal storm risks and included identification of a Recommended Plan that proposed a new approximately 26.7-mile-long levee and floodwall system along the edge of the Sabine and Neches River floodplains in Orange County, and to raise or reconstruct 11.6 miles and 18.2 miles of existing levees and floodwalls for Port Arthur and Freeport vicinities, respectively. The S2G Recommended Plan was divided into three distinct project areas: Port Arthur, Freeport, and Orange County as separable elements (projects) for the Preconstruction, Engineering, and Design (PED) and construction phases. The projects are in various stages of design and construction. The Orange County Project has moved from the feasibility phase to PED, which involves completing detailed engineering, design, and technical studies needed to begin construction. In response to new information resulting from additional technical studies, stakeholder engagement, and collection of site-specific data, alternatives that would modify the Recommended Plan for the Orange County Project are being considered.

Following the National Environmental Policy Act of 1969 (NEPA, Pub. L. 91-190) as amended, and Department of Defense NEPA implementing procedures, the USACE determined that a Draft Supplemental Environmental Impact Statement (SEIS) would be prepared because the agency (i) made substantial changes to the proposed action that are relevant to environmental concerns and (ii) there are substantial new circumstances or information about the significance of the adverse effects that bear on the proposed action or its effects.

In the S2G FIFR-EIS, the Orange County Project was estimated to result in the direct and indirect loss of 69.5 acres of forested wetlands and 2,340.2 acres of estuarine marsh, of which would be offset through restoration of 453 acres of estuarine marsh and preservation of 559.5 acres of forested wetlands. The impacts expected to be evaluated in the SEIS include additional short- and long-term effects to existing aquatic and terrestrial habitats, fish and wildlife including federally protected species and their habitat, water quality, noise, protected lands, recreation features, and viewshed. Compensatory mitigation is expected to be required to address impacts to aquatic habitats and federally protected species. Additional details related to these effects and other relevant data collection will be described in the Draft SEIS.

3. Alternatives. The Draft SEIS will compare the Recommended Plan, as described in the Chief's Report and FIFR-EIS for the Orange County Project and proposed alternative alignments and system changes identified during PED. More specifically, analyses in PED have resulted in recommendations to increase the height of levees and floodwalls, modify the lengths of these features, increase the number of pump stations, include interior drainage channels, and shift the alignment to be closer to the Sabine River. The Draft SEIS will evaluate reasonably foreseeable effects of the proposed design changes in the Recommended Plan including potential adverse and beneficial impacts to the human and natural environments that balance the interests of coastal storm risk management and environmental impacts. The USACE requests comments on alternatives or effects and relevant information, studies, or analyses with respect to the proposed action (NEPA § 107(c); 42 U.S.C. 4336a(c)).

4. Public Participation. Scoping completed prior to and after publication of this NOI will be used to develop the Draft SEIS. The scoping comment period begins with publication of this notice and ends on October 9, 2025. All substantive comments received during the scoping period may be used to identify or modify alternatives, or to supplement or improve analyses, not previously considered that should be evaluated in the Draft SEIS. Additional comments received outside of the scoping period will be considered prior to the Draft SEIS public review period, to the extent possible.

One public scoping meeting is scheduled for September 17, 2025. A Public Notice was published for the scoping meeting on the Galveston District website, the Legal Notices section of the Orange Leader and Beaumont Enterprise, and the S2G Orange County Project website. Public news releases included the scoping period timeframe, public meeting date, time, location, and where to send comments. The news releases were also distributed to the local stakeholders and known interested parties.

5. Coordination. The USACE will serve as the lead federal agency in the preparation of the Draft SEIS. Federal and state agencies have been invited to participate throughout the study process as Cooperating or Participating Agencies. The following agencies have accepted: Environmental Protection Agency, National Marine Fisheries Service, Texas Commission of Environmental Quality, Texas Parks and Wildlife Department, Texas General Land Office, and Texas Water Development Board. Further coordination with environmental agencies will be conducted under the Fish and Wildlife Coordination Act, the Endangered Species Act, the Clean Water Act, the Coastal Zone Management Act, the National Historic Preservation Act, and the Magnuson-Stevens Fishery Conservation and Management Act.

6. Schedule. The USACE currently estimates that the Draft SEIS will be available for public review and comment in or around mid- to late-2026. At that time, the USACE will provide a 45-day public review period for individuals and agencies to review and comment. The USACE will notify all interested agencies, organizations, and individuals of the availability of the draft document at that time. A Final SEIS and Record of Decision are expected in mid- to late-2027.

Seth W. Wacker,
Colonel, U.S. Army, Commanding.

[FR Doc. 2025-17300 Filed 9-8-25; 8:45 am]

BILLING CODE: P